DEPARTMENT OF THE INTERIOR

Fish and Wildlife Service

[FWS-R4-R-2010-N217; 40136-1265-0000-S3]

Lake Wales Ridge National Wildlife Refuge, Highlands and Polk Counties, FL; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Lake Wales Ridge National Wildlife Refuge (NWR). In the final CCP, we describe how we will manage this refuge for the next 15 years.

ADDRESSES: You may obtain a copy of the CCP by writing to: Mr. Charles Pelizza, Refuge Manager, 1339 20th Street, Vero Beach, FL 32960-3559, or by e-mail to: PelicanIsland@fws.gov. The CCP may also be accessed and downloaded from the Service's Web site: http://southeast.fws.gov/planning/under “Final Documents.”

FOR FURTHER INFORMATION CONTACT: Mr. Charles Pelizza; telephone: 772/562-3909, extension 244; e-mail: PelicanIsland@fws.gov; or Mr. Bill Miller; telephone: 561/715-0023; e-mail: LakeWalesRidgeCCP@fws.gov.

SUPPLEMENTARY INFORMATION:

Introduction

With this notice, we finalize the CCP process for Lake Wales Ridge NWR. We started this process through a notice in the Federal Register on June 20, 2008 (73 FR 35149).

Lake Wales Ridge NWR is a unit of the Merritt Island National Wildlife Refuge Complex and is administered by and co-managed with Pelican Island and Archie Carr National Wildlife Refuges, colloquially termed the Pelican Island National Wildlife Refuge Complex.

Lake Wales Ridge NWR is one of the first of its kind in the National Wildlife Refuge System to target community-level conservation—specifically scrub habitat—a unique vegetation type largely restricted to the central Florida ridge systems occurring on the remnants of ancient beach and sand dune systems from Ocala National Forest to southern Highlands County, Florida.

The refuge consists of 1,842.4 acres in fee title across four management units within a 12-unit approved acquisition boundary. These four units are as follows: Flamingo Villas (1,037.6 acres), Carter Creek (627.5 acres), Lake McLeod (38 acres), and Snell Creek (139.3 acres). The refuge contains prime examples of several highly imperiled ecosystems, including Florida scrub and sandhill, as well as over half of the Federally listed plant species endemic to the Lake Wales Ridge. The refuge protects 17 Federally listed plants, 40 endemic plants, 6 listed animals, and 1 candidate species, and more than 40 endemic invertebrates. Because of the potential for impacts to these plants and animals, the refuge has not been opened to the public.

Each of the four units comprising the refuge has its own particular merits and value. Ten Federally listed plants, including the only protected population of the Federally listed endangered Garrett's mint, and five Federally listed animals are known to exist on the refuge's Flamingo Villas Unit, including the threatened Florida scrub-jay. The Carter Creek Unit is an excellent example of endemic-rich Lake Wales Ridge sandhill, where 13 Federally listed plants exist, including an introduced population of the Florida ziziphus, once thought to be extinct. It is one of only a dozen populations known and one of the rarest and most endangered plants in the State. Eight Federally listed plants and two Federally listed animals occur on the small, 36-acre Lake McLeod Unit, one of but two protected sites where the endangered scrub lupine occurs. The Snell Creek Unit contains the vast majority of the refuge's sand pine scrub habitat where rare, threatened, and endangered species are known to occur, including the endangered sand skink.

The refuge exists as part of a network of scrubs which include lands managed by the U.S. Avon Park Air Force Range, State of Florida, The Nature Conservancy, Archbold Biological Station, and Polk and Highland Counties, with similar purposes to protect and manage what remains of this unique ecosystem.

We announce our decision and the availability of the final CCP and FONSI for Lake Wales Ridge NWR in accordance with the National Environmental Policy Act (NEPA) (40 CFR 1506.6(b)) requirements. We completed a thorough analysis of impacts on the human environment, which we included in the Draft Comprehensive Conservation Plan and Environmental Assessment for Lake Wales Ridge NWR. The CCP will guide us in managing and administering Lake Wales Ridge NWR for the next 15 years.

Compatibility determinations are available in the CCP and include Research, Wildlife Observation and Photography, and Environmental Education and Interpretation.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on April 30, 2010 (75 FR 22832). We received comments from local citizens and organizations.

Selected Alternative

After considering the comments we received, and based on the professional judgment of the planning team, we selected Alternative B for implementation.

The primary focus under Alternative B is management for rare, threatened, and endangered species. Implementing Alternative B is expected to result in restoring, improving, and maintaining habitat conditions for the many and varied rare, threatened, and endangered species found on the refuge. Increased information on a variety of species, suites of species, and habitats will enhance our decision-making. Further benefits will be realized from increased control of exotic, invasive, and nuisance species, and implementation of a prescribed fire program to target restoration of habitats to pre-fire exclusion conditions in support of rare, threatened, and endangered species. We will coordinate with partners to address challenges related to the impacts of landscape-level ecosystem stresses, including climate change and habitat conversion. We will increase our science and management capacities. We will enhance resource protection through focused and innovative land acquisition strategies and provide boundary protection from illicit uses. To achieve this, we will work with governmental and non-governmental partners, area communities, and local businesses, in addition to pursuing additional staff to address management concerns.

Alternative B is considered to be the most effective for meeting the purposes of the refuge. It addresses priority issues such as: (1) Declines in and threats to rare, threatened, and endangered species; (2) lack of baseline information on resources; (3) lack of an effective approach to apply fire management and measure fire effects; (4) existence, persistence, and spread of exotic, invasive, and nuisance species; (5) management challenges resulting from fragmented conservation lands under multiple jurisdictions; (6) inability to complete acquisition within the refuge's approved acquisition boundary; (7) threats and impacts of an increasing human population; (8) lack of on-site staff and resources to address needs; and (9) lack of understanding on the effects of global climate change on resources.

Authority

This notice is published under the authority of the National Wildlife Refuge System Improvement Act of 1997, Public Law 105-57.

Dated: October 22, 2010.
Mark J. Musaus,
Acting Regional Director.

[FR Doc. 2011-1305 Filed 1-21-11; 8:45 am]

BILLING CODE 4310-55-P